DEPARTMENT OF AGRICULTURE

Forest Service

Klamath National Forest, California, Two Bit Vegetation Management

AGENCY: Forest Service, USDA.

ACTION: Notice of intent to prepare an environmental impact statement.

SUMMARY: The Klamath National Forest will prepare an environmental impact statement (EIS) to document and publicly disclose the environmental effects of implementing commercial thinning and prescribed burn treatments in the Two Bit project area to provide forest products, restore forest health, and reduce fuel hazard on Klamath National Forest System lands. The project area is north and west of Happy Camp, California. Thinning and understory prescribed burning is proposed on approximately 10,800 acres.

DATES: Comments concerning the scope of the analysis must be received within 30 days of the publication of this notice in the Federal Register. The draft environmental impact statement is expected in April 2010 and the final environmental impact statement is expected in July 2010.

ADDRESSES: Send written comments to John Allen or Nick Larson, Project Team Leaders, P.O. Box 377, 63822 Highway 96, Happy Camp, CA 96039. You may also send electronic comments to the project e-mail inbox: comments-pacificsouthwest-klamath-happy-camp@fs.fed.us, or via facsimile to (530) 493-1796.

Comments received in response to this solicitation, including names and addresses of those who comment, become part of the public record for this proposed action. Comments submitted anonymously will be accepted and considered; however, anonymous comments will not provide the respondent with standing to participate in subsequent administrative review or judicial review.

FOR FURTHER INFORMATION CONTACT: The project Web site at http://www.fs.fed.us/r5/klamath/projects/projects/two-bit or contact John Allen (530-493-1741), Nick Larson (530-493-1724) or District Ranger Ken Harris (530-493-1712) at the Happy Camp Ranger District, 63822 Highway 96, Happy Camp, California 96039 if you have questions, concerns, or suggestions regarding this proposal.

SUPPLEMENTARY INFORMATION:

Background

The Two Bit Vegetation Management Project area is approximately 67,600 acres in size and is located within the Indian Creek watershed, north and west of Happy Camp, California, near the Oregon border. Thinning and prescribed burning are proposed on approximately 10,800 acres within treatment units scattered throughout the larger project area. Commercial thinning treatments make up approximately 2,200 acres of the total area proposed for treatment and the remainder (about 8,600 acres) is proposed for prescribed burning. The majority of the treatment units proposed for commercial thinning are existing plantations that have not been commercially thinned in the past. Approximately 300 acres proposed for treatment are natural stands. The project is scheduled for implementation in 2010.

National Forest System lands within the Klamath National Forest are managed using guidance provided by the Klamath National Forest Land and Resource Management Plan (Forest Plan). This Forest Plan provides two types of management direction: Forest-wide direction and Management Area direction. Other plans and policies that provide management direction for this project include, but are not limited to, the National Fire Plan, the Endangered Species Act, the National Historic Preservation Act, the Clean Water Act and the Clean Air Act. For further information pertinent to the Forest Plan please visit http://www.fs.fed.us/r5/klamath/projects/forestmanagement/forestplan/index.shtml.

Purpose and Need for Action

Historic conditions in the Two Bit project area consisted of a moderate to low intensity, frequent interval (5-15 year) fire regime. Historical large fire history as well as fire exclusion have played a substantial role in vegetation successional patterns throughout the area. The current fire regime is characterized as moderate intensity with an infrequent (greater than 25 years) interval. Historic conditions within the project area as seen in 1944 aerial photos and documented in the 1997 Indian Creek Watershed Analysis, indicate that large fires were a common occurrence in the area; there was variation in the landscape with areas of continuous cover broken up by openings of various sizes in the canopy. The lower severity fires of the past maintained open understories and kept levels of woody debris low; although, this varied as it does today depending on weather, local topography and fuels conditions. More recent aerial photo interpretation indicates a more continuous cover of forest with less variation and fewer openings. This change has contributed to increased fuel hazard (and the potential for high severity wildland fire), decreased habitat quality for some species and increased susceptibility to extreme insect and disease impacts and loss of big trees.

The differences between existing conditions and desired conditions form the basis for the need for action. Action is needed in the Two Bit project area to:

• Reduce tree density and move stands toward more natural composition and Structure.

• Restore and enhance meadows on the landscape.

• Sustain moderate timber yields that are compatible with area goals.

• Maximize tree growth while minimizing insect and disease susceptibility.

• Promote development of late-successional old-growth in Late-Successional Reserves.

• Protect mid- and early-seral forest from loss due to wildfire.

• Reduce the risk of losing northern spotted owl habitat from wildfire.

• Maintain and improve watershed conditions.

The purpose of the project is to:

1. Provide a programmed flow of timber products—Actions proposed in the Two Bit project area are designed to do this by improving and maintaining good growth rates, minimizing insect and disease damage through stocking control, and maintaining plantations where they currently exist. Approximately 80% of the area proposed for thinning is within existing plantations that are within Forest Plan Management Areas available for scheduled timber harvest (General Forest, Partial Retention Visual Quality Objective, Managed Wildlife Habitat) with the remaining area in Riparian Reserves and/or Late-Successional Reserves.

2. Sustain diverse, resilient ecosystems, more in keeping with historic conditions—Actions proposed in the Two Bit project area are designed to do this by reducing stand density, improving structural diversity within stands, maintaining natural meadows and wetlands or restoring meadows and wetlands where encroachment has occurred, maintaining hardwood diversity or restoring hardwood diversity where loss has occurred or recruitment is low, protecting mid- and early-seral forest from loss due to wildfire, and maintaining watershed health and the quality of the Indian Creek water source.

Proposed Action

The proposed action has been designed to meet the purpose of the Two Bit vegetation management project and satisfy the need for action primarily by using commercial thinning and prescribed burning.

Approximately 10,800 acres within the large Two Bit project area have been identified where treatments are necessary and feasible. Approximately 133 units have been identified for proposed commercial thinning. Of these, 31 are natural stands and 102 are existing plantations. These units comprise approximately 2,000 acres. An additional 200 acres are proposed for a more specialized treatment (pole harvest, sanitation thinning, hardwood release or meadow enhancement) as described in more detail below, for a total of approximately 2,200 acres of treatments. Ponderosa pine and Douglas-fir are the dominant species proposed for removal during thinning.

Commercial thinning is proposed in stands that are accessible from the existing road system and are of the size, age, terrain, and structure suitable for logging. Thinning would be followed by various fuel treatments, most of which would be underburning; although may include mastication, tractor piling, chipping, handpiling, or jackpot burning (burning small concentrations of slash and debris). Underburning would also be implemented on approximately 8,600 acres outside of commercial thinning units.

The majority of the thinning units identified in this project are proposed to be harvested using ground based operations (mechanized harvest or conventional tractor skidding); a few of the units have the opportunity to be cable logged, and none of the areas identified are proposed for helicopter logging. Trees deemed hazardous to the operations would be removed along the haul route.

Approximately 32 short temporary roads (totalling approximately 3.6 miles) are proposed for construction as part of this project to facilitate tractor and cable logging. All temporary roads constructed for this project would be closed and hydrologically restored to minimize erosion and sediment production upon completion of the project.

In addition to closing temporary roads at completion of the project, decommissioning an additional 4.3 miles of existing roads is also proposed. These roads were identified using the 2004 roads analysis process as requiring excessive maintenance, having little value to future management projects, and contributing to unfavorable watershed conditions.

While commercial thinning and underburning are the two primary tools proposed within the Two Bit project area to meet the purpose and need, several smaller areas are proposed for specialized treatments as described below.

• Pole harvest is proposed for approximately 86 acres along roadsides that are heavily stocked with small diameter (less than 10 inch) trees. These areas are proposed for thinning to meet fuels objectives and would be made available to the local community through personal use pole permits.

• Sanitation harvest is proposed for approximately 36 acres along a roadside that has dwarf mistletoe infestation. Thinning in these areas is proposed to remove trees with dwarf mistletoe to prevent the spread to nearby healthy stands.

• Meadow restoration is proposed for approximately 80 acres in order to maintain or enhance meadow conditions. Treatments would include chainsaw removal of small encroaching conifers, handpiling and burning, and limited use of prescribed fire.

• Hardwood release is proposed for approximately 18 acres in order to reduce conifer competition with medium- to large-sized oak trees.

Responsible Official

Patricia Grantham, Klamath National Forest Supervisor, USDA Forest Service, 1312 Fairlane Road, Yreka, California 96097, will prepare and sign the Record of Decision at the conclusion of the NEPA review.

Nature of Decision To Be Made

The Forest Service is the lead agency for the project. Based on the result of the NEPA analysis, the Forest Supervisor's Record of Decision regarding the Two Bit vegetation management project will recommend implementation of one of the following: (1) The proposed action and mitigation necessary to minimize or avoid adverse impacts; (2) An alternative to the proposed action and mitigation necessary to minimize or avoid adverse impacts; or (3) The no-action alternative. The Record of Decision will also document the consistency of the proposed action or one of the alternatives with the Klamath National Forest Land and Resource Management Plan (1995, as amended).

Scoping Process

This notice of intent initiates the scoping process, which guides the development of the environmental impact statement. To assist the Forest Service in identifying and considering issues and concerns on the proposed action, comments should be as specific as possible. A public open house will be held at the Happy Camp Grange Hall (64501 Second Avenue, Happy Camp, CA) on March 4, 2009 from 5 p.m. to 7 p.m. Forest Service staff will be on hand to meet with you, answer questions, and discuss the project and process. Comments may be submitted at the meeting, by email, fax or letter within the 30-day scoping period.

It is important that reviewers provide their comments at such times and in such a way that they are useful to the agency's preparation of the environmental impact statement. Therefore, comments should be provided prior to the close of the comment period and should clearly articulate the reviewer's concerns and contentions. The submission of timely and specific comments can affect a reviewer's ability to participate in subsequent administrative appeal or judicial review.

Dated: February 12, 2009.
Patricia A. Grantham,
Forest Supervisor.

[FR Doc. E9-3613 Filed 2-19-09; 8:45 am]

BILLING CODE 3410-11-M